FEDERAL COMMUNICATIONS COMMISSION

Report No. 2418; Petitions for Reconsideration and Clarification of Action in Rulemaking Proceeding

June 16, 2000.

Petitions for Reconsideration and Clarification have been filed in the Commission's rulemaking proceeding listed in this Public Notice and published pursuant to 47 CFR Section 1.429(e). The full text of this document is available for viewing and copying in Room CY-A257, 445 12th Street, S.W., Washington, D.C. or may be purchased from the Commission's copy contractor, ITS Inc. (202) 857-3800. Oppositions to these petitions must be filed by July 7, 2000 (47 CFR 1.4(b)(1)). Replies to an opposition must be filed within 10 days after the time for filing oppositions has expired.

Subject: Establishment of a class A Television Service (MM Docket No. 00-10).

Number of Petitions Filed: 15.

Federal Communications Commission.
William F. Caton,
Deputy Secretary.

[FR Doc. 00-15773 Filed 6-21-00; 8:45 am]

BILLING CODE 6712-01-M